DEPARTMENT OF THE TREASURY

Submission for OMB Review; Comment Request

August 13, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 22, 2003 to be assured of consideration.

Internal Revenue Service

OMB Number: 1545-0945.

Regulation Project Number: F1-255-82 NPRM and Temporary.

Type of Review: Extension.

Title: Registration Requirements With Respect to Debt Obligations.

Description: The rule requires an issuer of a registration-required obligation and any person holding the obligation as a nominee or custodian on behalf of another to maintain ownership records in a manner which will permit examination by the IRS in connection with enforcement of the Internal Revenue laws.

Respondents: Business of other for-profit.

Estimated Number of Recordkeepers: 50,000.

Estimated Burden Hours Recordkeeper: 1 hour.

Estimated Total Recordkeeping Burden: 50,000 hours.

OMB Number: 1545-0950.

Form Number: IRS Form 23.

Type of Review: Extension.

Title: Application for Enrollment to Practice Before the Internal Revenue Service.

Description: Form 23 must be completed by those who desire to be enrolled to practice before the Internal Revenue Service. The information on the form will be used by the Director of Practice to determine the qualifications and eligibility of applicants for enrollment.

Respondents: Individuals or households, Federal Government.

Estimated Number of Respondents: 2,400.

Estimated Burden Hours Per Respondent: 1 hour.

Estimated Total Reporting Burden: 2,400 hours.

OMB Number: 1545-1538.

Notice Number: Notice 97-34.

Type of Review: Extension.

Title: Information Reporting on Transactions With Foreign Trust and on Large Foreign Gifts.

Description: This notice provides guidance on the foreign trust and foreign gift information reporting provisions contained in the Small Business Job Protection Act of 1996.

Respondents; Business or other for-profit, Individuals or households, Not-for-profit institutions.

Estimated Number of Respondents/Recordkeepers: 5,000.

Estimated Burden Hours Per Respondent/Recordkeeper: 45 minutes.

Frequency of Response: Annually.

Estimated Total Reporting/Recordkeeping Burden: 3,750 hours.

OMB Number: 1545-1556.

Regulation Project Number: REG-251985-96 Final.

Type of Review: Extension.

Title: Source of Income From Sales of Inventory Partly From Sources Within a Possession of the United States; Also, Source of Income Derived From Certain Purchases From a Corporation Electing Section 936.

Description: The information requested in section 1.863-3(f)(6) is necessary for the Service to audit taxpayers' returns to ensure taxpayers are properly determining the source of their income.

Respondents: Business or other for-profit.

Estimated Number of Respondents: 200.

Estimated Burden Hours Per Respondent: 2 hours and 30 minutes.

Estimated Total Reporting Burden: 500 hours.

OMB Number: 1545-1840.

Regulation Project Number: REG-107618 NPRM and Temporary.

Type of Review: Extension.

Title: Automatic Extension of Time to File Certain Information Returns and Exempt Organizations Returns.

Description: The regulations provide an automatic extension of time to file certain information returns and exempt organization returns. The regulations remove the requirement for a signature and an explanation to obtain an automatic extension of time to file information returns; they also remove the requirement for a signature and an explanation to obtain an automatic extension of time to file exempt organization returns. The regulations affect taxpayers required to file certain information returns and/or exempt organization returns who need an extension of time to file.

Respondents: Business or other for-profit, Not-for-profit institutions.

Estimated Number of Respondents: 1.

Estimated Burden Hours Per Respondent: 1 hour.

Estimated Total Reporting Burden: 1 hour.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 03-21537 Filed 8-21-03; 8:45 am]

BILLING CODE 4830-01-P